DEPARTMENT OF COMMERCE

National Oceanic and Atmospheric Administration

Proposed Information Collection; Comment Request; Applications and Reporting Requirements for the Incidental Take of Marine Mammals by Specified Activities (Other Than Commercial Fishing Operations) Under the Marine Mammal Protection Act

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: Written comments must be submitted on or before December 2, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Dale Youngkin, (301) 427-8401 or ITP.Youngkin@noaa.gov.

SUPPLEMENTARY INFORMATION:

I. Abstract

This request is for an extension of a currently approved information collection.

The Marine Mammal Protection Act of 1972 (MMPA; 16 U.S.C. 1361 et seq.) prohibits the “take” of marine mammals unless otherwise authorized or exempted by law. Among the provisions that allow for lawful take of marine mammals, sections 101(a)(5)(A) and (D) of the MMPA direct the Secretary of Commerce to allow, upon request, the incidental, but not intentional, taking of small numbers of marine mammals by U.S. citizens who engage in a specified activity (other than commercial fishing), within a specified geographical region if, after notice and opportunity for public comment, we find that the taking will have a negligible impact on the affected species or stock(s) and will not have an unmitigable adverse impact on the availability of the species or stock(s) for subsistence uses (where relevant). The National Marine Fisheries Service (NMFS) also must set forth the permissible methods of taking; other means of effecting the least practicable adverse impact on the species or stock and its habitat (mitigation); and requirements pertaining to the monitoring and reporting of such taking.

Issuance of an incidental take authorization (Authorization) under section 101(a)(5)(A) or 101(a)(5)(D) of the MMPA requires three sets of information collection: (1) A complete application for an Authorization, as set forth in our implementing regulations at 50 CFR 216.104, which provides the information necessary for us to make the necessary statutory determinations, including estimates of take and an assessment of impacts on the affected species and stocks; (2) information relating to required monitoring; and (3) information related to required reporting. These collections of information enable us to: (1) Evaluate the proposed activity's impact on marine mammals; (2) arrive at the appropriate determinations required by the MMPA and other applicable laws prior to issuing the authorization; and (3) monitor impacts of activities for which we have issued Authorizations to determine if our predictions regarding impacts on marine mammals remain valid.

On August 4, 2016, NMFS published a Federal Register Notice (81 FR 51694) notifying the public of its new Technical Guidance for Assessing the Effects of Anthropogenic Sound on Marine Mammal Hearing (Guidance). This guidance established new thresholds for predicting auditory injury, which equates to Level A harassment (a type of take) under the MMPA. In that Federal Register Notice we stated that we would consider the effect of the Guidance, specifically whether a revision in the burden hour estimates is appropriate, and invite public comment on its assessment.

Although NMFS has updated the acoustic thresholds and these changes may necessitate new methodologies for calculating impacts, NMFS does not anticipate that the new guidance will substantially add to the overall burden to applicants for incidental take authorizations. This is due to the fact that, recognizing that action proponents have varying abilities to model and estimate exposure, and that the new guidance may be more complex than some action proponents are able to incorporate, NMFS provided an alternative methodology with an associated spreadsheet for use as an aid. Action proponents already using more complex modeling capabilities would simply modify their modeling efforts using the new criteria, and action proponents without the ability to do more complex modeling may opt to use the alternative methodology spreadsheet. Therefore, the estimated time per response is not affected by the guidance.

II. Method of Collection

Respondents have a choice of submitting either electronic or paper forms. Methods of submittal include email, mail, overnight delivery service, and/or facsimile transmissions.

III. Data

OMB Control Number: 0648-0151.

Form Number: None.

Type of Review: Regular submission (extension of a currently approved information collection).

Affected Public: Not-for-profit institutions; state, local, or tribal governments; businesses or other for-profit organizations.

Estimated Number of Respondents: 95.

Estimated Time per Response: 255 hours for an Incidental Harassment Authorization (IHA) application; 11 hours for an IHA interim report (if applicable); 115 hours for an IHA draft annual report; 14 hours for an IHA final annual report (if applicable); 1,100 hours for the initial preparation of an application for new regulations; 70 hours for an annual Letter of Authorization (LOA) application; 220 hours for an LOA draft annual report; 65 hours for a LOA final annual report (if applicable); 625 hours for a LOA draft comprehensive report; and 300 hours for an LOA final comprehensive report. Response times will vary for the public based upon the complexity of the requested action.

Estimated Total Annual Burden Hours: 14,109.

Estimated Total Annual Cost to Public: $360 in recordkeeping/reporting costs and $0 in capital costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 27, 2016.
Sarah Brabson,
NOAA PRA Clearance Officer.

[FR Doc. 2016-23743 Filed 9-30-16; 8:45 am]

BILLING CODE 3510-22-P